DEPARTMENT OF THE INTERIOR

Bureau of Land Management

[19XL5017AR.LLUT921000.L54200000.BX0000.LVDIJ19J0010; UTU-94260]

Notice of Application for Recordable Disclaimer of Interest in Public Highway Rights-of-Way; Manganese Road in Washington County, UT

AGENCY: Bureau of Land Management, Interior.

ACTION: Notice.

SUMMARY: On May 9, 2019, the State of Utah and Washington County (Applicants) filed an application with the Bureau of Land Management (BLM) for a Recordable Disclaimer of Interest (RDI) from the United States in a public highway right-of-way identified by BLM Serial Number UTU-94260 for Manganese Road in Washington County, Utah. An RDI, if issued, would disclaim the United States' interest in this public highway right-of-way. This Notice is to notify the public of the pending application and the Applicants' grounds supporting it. Specific details of the application are provided in the SUPPLEMENTARY INFORMATION section.

DATES: Submit written comments on this application on or before December 9, 2019. Public comments may be mailed or hand delivered to the BLM office address below. Comments on the Manganese Road should reference BLM Serial Number UTU-94260. The BLM will not consider comments received via telephone calls or faxes.

ADDRESSES: You may submit comments via mail or email on the State and Washington County's application for an RDI. Email comments may be submitted to blm_ut_rdi@blm.gov. Written comments may be provided to Melinda Moffitt, Project Manager (R.S. 2477), BLM Utah State Office (UT-921), 440 West 200 South, Suite 500, Salt Lake City, Utah 84101-1345.

FOR FURTHER INFORMATION CONTACT: Melinda Moffitt, Project Manager (R.S. 2477), BLM Utah State Office at the above address or phone (801) 539-4045 and email to blm_ut_rdi@blm.gov. Persons who use a telecommunication device for the deaf (TDD) may call the Federal Relay Service (FRS) at (800) 877-8339 to contact the above individual. The FRS is available 24 hours a day, 7 days a week, to leave a message or question with the above individual. You will receive a reply during normal business hours.

SUPPLEMENTARY INFORMATION: Section 315 of the Federal Land Policy and Management Act (FLPMA) of 1976, as amended (43 U.S.C. 1745), and the regulations at 43 CFR 1864 authorize the BLM to issue an RDI where: (1) The disclaimer will help remove a cloud on title, and (2) a record interest of the United States in lands has terminated by operation of law or is otherwise invalid.

In their application, the Applicants identify that the BLM's continued management and regulation of the Manganese Road, i.e., the claimed Revised Statute (R.S.) 2477 (43 U.S.C. 932, repealed October 21, 1976) right-of-way that is the subject of the application, and the Applicants' Quiet Title Act lawsuit that seeks to quiet title in the road represent a cloud on the Applicants' title. Further, the Applicants assert that they hold a joint and undivided property interest in the public highway right-of-way for the Manganese Road as granted pursuant to the authority provided by R.S. 2477 over public lands administered by the BLM.

The Manganese Road is approximately 10.18 miles in length, located in western Washington County, and it extends from the Gunlock Road west to the Motoqua Road. It crosses approximately 9.88 miles of public lands administered by the BLM in townships 40 south, ranges 17 and 18 west, Salt Lake Meridian, Utah. The RDI application pertains only to those road segments across public lands administered by the BLM. One road segment is approximately 0.3 miles long across private property and is not a part of the application. This private property segment is the eastern 0.3 mile segment of the Manganese Road that connects to the Gunlock Road and crosses sections 28 and 29 of township 40 south, range 17 west, Salt Lake Meridian, Utah.

Application information submitted by the Applicants indicates that initial use of Manganese Road began no later than the 1940s. The road was and currently is used for grazing, ranching, hunting, wood gathering, prospecting, recreation, and general public access in the local area. The surface of the road is gravel and native soil and is graded throughout its length.

The Applicants submitted the following information with the application:

1. Narrative description of the location, characteristics and attributes of Manganese Road. The travel surface width ranges from 21 to 68 feet.

2. Centerline description of the road based on Global Positioning System (GPS) data.

3. Detailed descriptions of the right-of-way passing through public lands including beginning and end points, surface type, and disturbed width.

4. Maps showing the location of the public highway right-of-way.

5. Aerial photography dated 1976.

6. Depositions by seven persons attesting to the location of the road; its establishment as a public highway prior to October 21, 1976; familiarity with the character and attributes of the road including type of travel surface, disturbed width, associated improvements and ancillary features such as culverts, cattle-guards, etc.; current public usage of the road; the historic and current purposes for which the road is used; and evidence of periodic maintenance.

7. Recent photographs and 360 degree video depictions of the road at various points along its alignment.

The Applicants did not identify any known adverse claimants of the public highway right-of-way.

If approved, the RDI document would disclaim the United States' interest in the public highway right-of-way as of the date of the disclaimer document. The BLM's RDI document would disclaim the United States' interest in, or ownership of, specified interests in lands, but the disclaimer would not grant, convey, transfer, remise, quitclaim, release or renounce any title or interest in the lands, nor would it release any tax, judgment, or lien, or any other mortgage, deed or trust, or other security interest in lands that are held by or for the benefit of the United State or any instrumentality of the United States. This Notice is to inform the public of the pending application and the Applicants' supporting evidence, as well as to provide the opportunity to comment or provide additional information to the BLM.

The BLM will not make a final determination on the Applicants' application before February 6, 2020. Interested parties and the public will have 30 days to provide comment and are encouraged to access the BLM RDI public web page at https://www.blm.gov/programs/lands-and-realty/utah/rdi to review a copy of the application and supporting evidence. Additionally, copies of the application materials are available for public review at the BLM Utah State Office (see Addresses above), during regular business hours, 7:45 a.m. to 4:30 p.m. local time, Monday through Friday, except holidays.

Before including your address, phone number, email address, or other personal identifying information in your comment, you should be aware that your entire comment including your personal identifying information may be made publicly available at any time. While you can ask the BLM in your comment to withhold your personal identifying information from public review, we cannot guarantee that we will be able to do so.

Authority: 43 CFR 1864.

Edward Roberson,
State Director.

[FR Doc. 2019-24448 Filed 11-7-19; 8:45 am]

BILLING CODE 4310-DQ-P